ENVIRONMENTAL PROTECTION AGENCY

[FRL-7624-3]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses To Agency Clearance Requests

OMB Approvals

EPA ICR No. 2083.01; Estimating the Value of Improvements to Coastal Waters—A Pilot Study of a Coastal Valuation Survey; was approved 01/22/2004; OMB Number 2090-0024; expires 01/31/2005.

EPA ICR No. 1704.07; Toxic Chemical Release Reporting, Alternate Threshold for Low Annual Reportable Amounts, Recordkeeping, Supplier Notification and Petitions under Section 313 of the Emergency Planning and Community Right-to-Know Act (EPCRA); in 40 CFR part 372; was approved 01/09/2004; OMB Number 2070-0143; expires 01/31/2006.

EPA ICR No. 0234.08; Performance Evaluation Studies of Water and Waste Water Laboratories; was approved 01/09/2004; OMB Number 2080-0021; expires 01/31/2007.

EPA ICR No. 1363.13; Toxic Chemical Release Reporting, Recordkeeping, Supplier Notification and Petitions under Section 313 of the Emergency Planning and Community Right-to-Know Act (EPCRA); in 40 CFR part 372; was approved 01/09/2004; OMB Number 2070-0093; expires 01/31/2006.

Short Term Extensions

EPA ICR No. 1953.02; Information Collection Request for Best Management Practices Alternative, Effluent Limitations Guidelines and Standards, Oil and Gas Extraction Point Source Category; OMB Number 2040-0230; on 01/12/2004 OMB extended the expiration date to 04/30/2004.

EPA ICR No. 0616.07; Compliance Requirements for Child Resistant Packaging; Number 2070-0052; on 01/30/2004 OMB extended the expiration date to 04/30/2004.

Dated: February 9, 2004.
Oscar Morales,
Director, Collection Strategies Division.

[FR Doc. 04-3452 Filed 2-17-04; 8:45 am]

BILLING CODE 6560-50-P